DEPARTMENT OF HEALTH AND HUMAN SERVICES

Centers for Disease Control and Prevention

[Docket No. CDC-2018-0057]

Final Environmental Impact Statement; Acquisition of Site for Development of a Replacement Underground Safety Research Program Facility for the Centers for Disease Control and Prevention/National Institute for Occupational Safety and Health (CDC/NIOSH) in Mace, West Virginia; Availability and Public Information Meeting

AGENCY: Centers for Disease Control and Prevention (CDC), Department of Health and Human Services (HHS).

ACTION: Notice of availability.

SUMMARY: The Centers for Disease Control and Prevention (CDC) within the Department of Health and Human Services (HHS), in cooperation with the General Services Administration (GSA), announces the availability of a Final Environmental Impact Statement (FEIS) for the proposed acquisition of a site in Mace, West Virginia, and the development of this site into a replacement for the National Institute for Occupational Safety and Health (NIOSH) Underground Safety Research Program facility (Proposed Action). The proposed acquisition and development would replace the former Lake Lynn Experimental Mine in Fayette County, Pennsylvania and would support research programs focused on miner health and safety issues. The site being considered for acquisition and development includes 461.35 acres located off U.S. Route 219 in Randolph and Pocahontas Counties near Mace, West Virginia (Site). The Final EIS and this notice are published pursuant to the requirements of the National Environmental Policy Act of 1969 (NEPA) as implemented by the Council on Environmental Quality (CEQ) Regulations (40 CFR parts 1500-1508). In parallel with the NEPA process, CDC also completed consultation with the West Virginia State Historic Preservation Office under Section 106 of the National Historic Preservation Act to evaluate the potential effects, if any, of the Proposed Action on historic properties.

DATES:

Public Information Meeting: The public meeting will be held on August 5, 2021 from 6:00 to 7:00 p.m. The meeting will be held via Zoom. See the SUPPLEMENTARY INFORMATION for more information.

If you have any questions or comments that you would like to see addressed during the virtual information meeting, please email those to cdc-macewv-eis@cdc.gov no later than July 26, 2021.

Deadline for Requests for Special Accommodations: Persons wishing to participate in the public meeting who need special accommodations should contact Sam Tarr at 770-488-8170 by 5:00 p.m. Eastern Time, July 26, 2021.

CDC will issue a final decision on the Proposed Action on or after August 16, 2021.

ADDRESSES:

Copies of the Final EIS can be obtained at:

• Federal eRulemaking Portal: http://www.regulations.gov (reference Docket No. CDC-2018-0057)

• Linwood Community Library, 72 Snowshoe Drive, Slatyfork, West Virginia 26291.

• Elkins Randolph County Public Library, 416 Davis Ave, Elkins, WV 26241.

• By written request (electronic copies only) to: cdc-macewv-eis@cdc.gov.

An electronic copy of the public information meeting materials can be obtained after 6:00 p.m., July 30, 2021 at:

• https://gsa.gov/about-us/regions/welcome-to-the-midatlantic-region-3/buildings-and-facilities/west-virginia/cdc-niosh-mine-site-selection-acquisition-environmental-impact-statement.

FOR FURTHER INFORMATION CONTACT: Sam Tarr, Office of Safety, Security, and Asset Management (OSSAM), Centers for Disease Control and Prevention, 1600 Clifton Road NE, H20-4, Atlanta, Georgia 30329-4027, phone: (770) 488-8170, or email: cdc-macewv-eis@cdc.gov.

SUPPLEMENTARY INFORMATION:

Public Information Meeting:

Public participation is an essential part of the NEPA process. Therefore, although CDC has fulfilled the public meeting requirements under NEPA, due to the changes in the Final EIS that have resulted from stakeholder input and to ensure that the stakeholders have the opportunity to learn of the changes and mitigation measures, CDC is holding an information meeting to discuss the key changes in the Final EIS. The information meeting will be virtual due to COVID-19 restrictions. The virtual information meeting will be held on:

August 5, 2021 from 6:00 to 7:00 p.m. at Zoom Webinar: https://us02web.zoom.us/j/83943045020 Or Telephone: +1 312 626 6799, Webinar ID: 839 4304 5020.

CDC has taken into consideration the limited internet availability in the project vicinity. The PowerPoint presentation will be available for download in advance of the meeting here: [https://gsa.gov/about-us/regions/welcome-to-the-midatlantic-region-3/buildings-and-facilities/west-virginia/cdc-niosh-mine-site-selection-acquisition-environmental-impact-statement]. Those with limited internet connectivity can download the presentation in advance and then call into the meeting using the Zoom phone number. Electronic materials will be available for download by close of business on July 30, 2021.

Should you need a hardcopy of the PowerPoint presentation, please email your request, including name and address, to cdc-macewv-eis@cdc.gov no later than July 26, 2021. Representatives of CDC and GSA will not be taking questions during the meeting and request questions be submitted in advance of the meeting so the agencies can incorporate those questions into the presentation so that all participants receive the same hardcopy information. If you have any questions or comments that you would like to see addressed during the virtual information meeting, please email those to cdc-macewv-eis@cdc.gov no later than July 26, 2021.

Background: CDC is dedicated to protecting health and promoting quality of life through the prevention and control of disease, injury, and disability. NIOSH, one of CDC's Centers, Institute, and Offices, was established by the Occupational Safety and Health Act of 1970. NIOSH plans, directs, and coordinates a national program to develop and establish recommended occupational safety and health standards, conduct research and training, provide technical assistance, and perform related activities to ensure safe and healthful working conditions for every working person in the United States.

In 1997, when the mine safety and health function was transferred from the Bureau of Mines (BOM) to NIOSH, NIOSH took over the lease for a facility referred to as the Lake Lynn Experimental Mine (LLEM). BOM had leased the LLEM facility since 1982. The LLEM is located 60 miles south of Pittsburgh, Pennsylvania. The LLEM and its aboveground fire testing facility were primarily used for studies and research on mine explosions, mine seals, mine rescue, ventilation, diesel exhaust, new health and safety technologies, ground control, and fire suppression. After December 2012, the property was no longer available for long-term leasing. CDC attempted to purchase the underlying property on which LLEM is located, but NIOSH vacated the LLEM after market-based purchase offers were rejected by the property owners.

In 2013, CDC completed a Project Development Study to outline a design solution to replace the LLEM. The study presented the facility and site requirements and design concepts for the replacement facilities. In 2016, to identify potentially available locations that could accommodate the space requirements defined in the 2013 study, GSA issued (on behalf of CDC) two separate Requests for Expressions of Interest (REOI) for a site, developed or undeveloped, that could be used for the new underground safety research facility. The first REOI, advertised in June 2016, contained a limited delineated area within a 200-mile radius of the LLEM. The REOI set forth criteria that would be used to evaluate the suitability of the submitted sites. One expression of interest that had the potential to meet the minimum criteria was received. After further evaluation, however, the site was found to be non-viable.

The second REOI was issued in October 2016 and expanded the delineated area to the entire contiguous United States. Three expressions of interest were received for sites in Kentucky, Missouri, and West Virginia. The Kentucky site did not meet the minimum criteria, and the Missouri site expression of interest did not contain all necessary information to evaluate. The offeror of the Missouri site did not respond to subsequent GSA inquiries.

The potential site in West Virginia met the minimum criteria and was determined to be a viable site. The site is located near Mace, West Virginia, and straddles the Randolph and Pocahontas County lines.

In accordance with NEPA, as implemented by the CEQ regulations (40 CFR parts 1500-1508), with GSA as a cooperating agency, CDC prepared a Draft EIS for the proposed acquisition of the Site and construction of a new underground safety research facility on the Site. Under NEPA, federal agencies are required to evaluate the environmental effects of their proposed actions and a range of reasonable alternatives to the proposed action before making a decision. On February 14, 2019, in accordance with NEPA, CDC published a Notice of Availability announcing that a Draft EIS for the proposed acquisition and development had been prepared. The Draft EIS evaluated two alternatives: The Proposed Action Alternative (acquisition of the Site and construction of a new underground safety research facility) and the No Action Alternative. No other alternatives were considered because only one qualifying site was identified through the site selection process discussed above.

Publication of the Draft EIS notice initiated a 51-day review period, which ended on April 5, 2019. During this period, CDC received comments from government agencies, a Native American tribe, and the public. These comments pertained to the proposed action in general, including the purpose and need; water quality/groundwater impacts; traffic impacts; tourism impacts; noise and vibration impacts; viewshed impacts; and wildlife impacts.

All comments were considered when preparing the Final EIS and responses to the comments are provided in the Final EIS. The Final EIS identifies the Proposed Action Alternative as CDC's Preferred Alternative.

CDC will make a decision on whether to proceed with the Proposed Action on or after August 16, 2021. At that time, CDC will issue a Record of Decision documenting and explaining its decision based on the Final EIS.

Dated: July 13, 2021.
Sandra Cashman,
Executive Secretary, Centers for Disease Control and Prevention.

[FR Doc. 2021-15139 Filed 7-15-21; 8:45 am]

BILLING CODE 4163-18-P